FEDERAL COMMUNICATIONS COMMISSION

[OMB 3060-1158; FRS 17279]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before February 2, 2021. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele, (202) 418-2991.

SUPPLEMENTARY INFORMATION:

OMB Control Number: 3060-1158.

Title: Transparency Rule Disclosures, Restoring internet Freedom, Report and Order, WC Docket No. 17-108.

Form Number: N/A.

Type of Review: Extension of a currently-approved collection.

Respondents: Business or other for-profit entities, Not-for-profit entities; State, local, or Tribal governments.

Number of Respondents and Responses: 2,165 respondents; 2,165 responses.

Estimated Time per Response: 26 hours.

Frequency of Response: On occasion reporting requirement; third party disclosure requirement.

Obligation to Respond: Mandatory. Statutory authority for these collections is contained in Section 257 of the Communications Act of 1934, as amended, 47 U.S.C. Section 257.

Total Annual Burden: 56,290 hours.

Total Annual Cost: $510,000.

Privacy Act Impact Assessment: No impact(s).

Nature and Extent of Confidentiality: There is no need for confidentiality with this information collection.

Needs and Uses: The Restoring internet Freedom Report and Order (Restoring internet Freedom Order) revised the information collection requirements applicable to internet service providers (ISPs). The Open internet Order, adopted in 2010, required ISPs to disclose certain network management processes, performance characteristics, and other attributes of broadband internet access service. These disclosure requirements were significantly increased by the Title II Order, adopted in 2015. The Restoring internet Freedom Order eliminated the additional collection imposed by the Title II Order, and added a few discrete elements to the Open internet Order's information collection requirements. The Restoring internet Freedom Order requires an ISP to publicly disclose network management practices, performance, and commercial terms of its broadband internet access service sufficient to enable consumers to make informed choices regarding the purchase and use of such services, and entrepreneurs and other small businesses to develop, market, and maintain internet offerings. As part of these disclosures, the rule requires ISPs to disclose their congestion management, application-specific behavior, device attachment rules, and security practices, as well as any blocking, throttling, affiliated prioritization, or paid prioritization in which they engage. The rule also requires ISPs to disclose performance characteristics, including a service description and the impact of nonbroadband internet access services data services. Finally, the rule requires ISPs to disclose the price of the service, privacy policies, and redress options. The rule requires ISPs to make such disclosures available either via a publicly-available, easily accessible website or through transmittal to the Commission, which will make such disclosures available via a publicly-available, easily accessible website. The information collection will assist the Commission in its statutory obligation to report to Congress on market entry barriers in the telecommunications market. The Commission anticipates that the revised disclosures would empower consumers and businesses with information about their broadband internet access service, protecting the openness of the internet. Although this collection was bifurcated in 2016 with respect to fixed and mobile ISPs, the Commission seeks to have this collection encompass both fixed and mobile ISPs.

Federal Communications Commission.
Marlene Dortch,
Secretary, Office of the Secretary.

[FR Doc. 2020-26744 Filed 12-3-20; 8:45 am]

BILLING CODE 6712-01-P